DEPARTMENT OF COMMERCE

Foreign-Trade Zones Board

[Docket 65-2008]

Foreign-Trade Zone 207—Richmond, Virginia; Application for Subzone; Qimonda North America Corporation; (Dynamic Random Access Memory Modules Distribution); Sandston, VA

An application has been submitted to the Foreign-Trade Zones Board (the Board) by the Capital Region Airport Commission, grantee of FTZ 207, requesting special-purpose subzone status for the warehousing and distribution facility of Qimonda North America Corporation (Qimonda), located in Sandston, Virginia. The application was submitted pursuant to the provisions of the Foreign-Trade Zones Act, as amended (19 U.S.C. 81a-81u), and the regulations of the Board (15 CFR part 400). It was formally filed on December 2, 2008.

The Qimonda facility (10 employees, 210 acres, 1,435,278 square feet) is located at 6000 Technology Boulevard, Sandston, Virginia. The facility is used for the storage and distribution of dynamic random access memory modules (duty-free).

FTZ designation would allow Qimonda to realize logistical benefits through the use of weekly customs entry procedures. The request indicates that the savings from FTZ procedures would help improve the facility's international competitiveness.

In accordance with the Board's regulations, Elizabeth Whiteman of the FTZ Staff is designated examiner to investigate the application and report to the Board.

Public comment is invited from interested parties. Submissions (original and 3 copies) shall be addressed to the Board's Executive Secretary at the address below. The closing period for their receipt is February 17, 2009. Rebuttal comments in response to material submitted during the foregoing period may be submitted during the subsequent 15-day period to March 2, 2009.

A copy of the application and accompanying exhibits will be available for public inspection at each of the following locations:

U.S. Department of Commerce Export Assistance Center, 400 N. 8th St., Suite 412, Richmond, VA 23240-0026.

Office of the Executive Secretary, Foreign-Trade Zones Board, U.S. Department of Commerce, Room 2111, 1401 Constitution Ave., NW., Washington, DC 20230.

For further information, contact Elizabeth Whiteman at Elizabeth_Whiteman@ita.doc.gov or (202) 482-0473.

Dated: December 3, 2008.
Andrew McGilvray,
Executive Secretary.

[FR Doc. E8-29990 Filed 12-16-08; 8:45 am]

BILLING CODE 3510-DS-P